DEPARTMENT OF THE INTERIOR

National Park Service

[NPS-WASO-NRNHL-DTS#-33393; PPWOCRADI0, PCU00RP14.R50000]

National Register of Historic Places; Notification of Pending Nominations and Related Actions

AGENCY: National Park Service, Interior.

ACTION: Notice.

SUMMARY: The National Park Service is soliciting electronic comments on the significance of properties nominated before February 4, 2022, for listing or related actions in the National Register of Historic Places.

DATES: Comments should be submitted electronically by March 4, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 4, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Denver County

Loretto Heights Academy (Boundary Decrease), 3001 South Federal Blvd., Denver, BC100007512

DELAWARE

New Castle County

Mitchell, Robert, House, 1749 Old Wilmington Rd., Hockessin vicinity, SG100007509

MISSOURI

Cole County

Miller, Frank, Green Berry Road Historic District, 1427, 1431 and 1503 Green Berry Rd., Jefferson City, SG100007507

Jasper County

Bank of Avilla, 205 Greenfield St., Avilla, SG100007497

MONTANA

Beaverhead County

Dell Flight Strip, Dell Airport Rd., Dell, SG100007501

Phillips County

Edwards & McLellan Block, 101 South 1st St. East, Malta, SG100007498

NEBRASKA

Clay County

Clay Center Library and Gymnasium, (Carnegie Libraries in Nebraska MPS AD), 117 West Edgar St., Clay Center, MP100007503

Harvard Carnegie Library, (Carnegie Libraries in Nebraska MPS AD), 309 North Clay St., Harvard, MP100007504

Douglas County

Elkhorn Town Hall, 20515 Corby St., Omaha, SG100007505

Holt County

Biglin, W.J., House, 615 East Douglas St., O'Neill, SG100007506

NORTH DAKOTA

Cass County

Fargo-Moorhead YMCA Sign, 400 1st Ave. South, Fargo, SG100007495

OHIO

Lorain County

Broadway Historic District, Roughly bounded by Broadway, West Erie Ave. from Washington Ave. & Erie Street, Bridge, Washington Ave., Reid Ave., West 10th, West 4th, West 5th, West 6th, West 7th, West 8th, and West 9th Sts., Lorain, SG100007496

Lucas County

Toledo Central Business Historic District, Roughly bounded by Madison Ave., the Maumee R., Adams, Jackson, Cherry, Summit, Monroe, 10th, and Michigan Sts., Toledo, SG100007510

VERMONT

Chittenden County

Shelburne Falls Historic District, Falls Rd., Irish Hill Rd., Bacon Dr., Shelburne, SG100007500

Additional documentation has been received for the following resources:

COLORADO

Denver County

Loretto Heights Academy (Additional Documentation), 3001 South Federal Blvd., Denver, AD100007512

MASSACHUSETTS

Essex County

Salem Willows Historic District (Additional Documentation), Roughly, Columbus, Bay View, Beach and Fort Aves., Salem, AD94000265

Authority: Section 60.13 of 36 CFR part 60.

Dated: February 4, 2022.
Sherry A. Frear,
Chief, National Register of Historic Places/National Historic Landmarks Program.

[FR Doc. 2022-03477 Filed 2-16-22; 8:45 am]

BILLING CODE 4312-52-P